DEPARTMENT OF THE INTERIOR

Bureau of Ocean Energy Management

[OMB Control Number 1010-0106; Docket ID BOEM-2017-0016]

Agency Information Collection Activities; Oil Spill Financial Responsibility

AGENCY: Bureau of Ocean Energy Management, Interior.

ACTION: Notice of information collection; request for comment.

SUMMARY: In accordance with the Paperwork Reduction Act of 1995, the Bureau of Ocean Energy Management (BOEM) is proposing to renew an information collection request (ICR) with revisions.

DATES: Comments must be received by October 31, 2022.

ADDRESSES: Submit your written comments on this ICR to the Office of Management and Budget's desk officer for the Department of the Interior at www.reginfo.gov/public/do/PRAMain within 30 days of publication of this notice. From the www.reginfo.gov/public/do/PRAMain landing page, find this information collection by selecting “Currently under Review—Open for Public Comments” or by using the search function. Please provide a copy of your comments by parcel delivery to the BOEM Information Collection Clearance Officer, Anna Atkinson, Bureau of Ocean Energy Management, 45600 Woodland Road, Sterling, Virginia 20166; or by email to anna.atkinson@boem.gov. Please reference OMB Control Number 1010-0106 in the subject line of your comments. You may also comment by searching the docket number BOEM-2017-0016 at http://www.regulations.gov.

FOR FURTHER INFORMATION CONTACT: Anna Atkinson by email at anna.atkinson@boem.gov or by telephone at 703-787-1025. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

Title of Collection: 30 CFR part 553, “Oil Spill Financial Responsibility for Offshore Facilities.”

Abstract: This ICR concerns the paperwork requirements in 30 CFR part 553 and forms BOEM-1016 through -1023 and BOEM-1025. This ICR also includes paperwork requirements found in any supplementary notices to lessees and operators that provide clarification, description, or explanation of these regulations.

BOEM uses forms to collect information to ensure proper and efficient administration of its oil spill financial responsibility requirements. BOEM collects information to:

• Provide a standard method for establishing whether a party is required to demonstrate oil spill financial responsibility for offshore facilities;

• Identify and maintain a record of those offshore facilities that have a potential oil spill liability requiring the demonstration of oil spill financial responsibility;

• Establish and maintain a continuous record of evidence of oil spill financial responsibility to assure payment of claims for oil spill cleanup and damages resulting from operations conducted on covered offshore facilities and from the transportation of oil from covered offshore facilities;

• Establish and maintain a continuous record of responsible parties, as defined in title I of the Oil Pollution Act of 1990, and their agents or authorized representatives for oil spill financial responsibility for covered offshore facilities; and

• Establish and maintain a continuous record of persons to contact and U.S. agents for service of process for claims associated with oil spills from covered offshore facilities.

OMB Control Number: 1010-0106.

Type of Review: Revision of a currently approved information collection.

Respondents/Affected Public: Designated applicants and holders of leases, permits, right-of-way grants, and right-of-use and easement grants on the Outer Continental Shelf (OCS) and in State coastal waters who are responsible parties. Other respondents may be designated applicants' insurance agents and brokers, bonding companies, and guarantors. Some respondents may also be claimants.

Total Estimated Number of Annual Responses: 2,233 responses.

Total Estimated Number of Annual Burden Hours: 34,695 hours.

Respondent's Obligation: Mandatory.

Frequency of Collection: On occasion or annual.

Total Estimated Annual Non-Hour Burden Cost: There is no non-hour cost burden associated with this collection.

Estimated Reporting and Recordkeeping Hour Burden: The current annual burden for this collection is 22,133 hours. BOEM proposes to increase the annual burden to 34,695 hours to account for changes in industry operations due to COVID and remote work. As COVID restrictions ease and OCS energy companies resume production, BOEM expects an increase in the annual number of respondents as those companies re-establish oil spill financial coverage. This increase is attributable to the continued use of remote work practices developed during the pandemic by those companies.

Remote work led to changes in how industry reviews and processes required documents. Prior to COVID, in-person meetings with a group of reviewers were held to complete the task quickly and efficiently. Now with many employees working from home, document preparation, review, and editing take longer as the documents move through several individual reviewers. Through its outreach efforts, BOEM received this feedback from industry. Therefore, BOEM is increasing hour burdens to account for the additional review and editing time. This increase in respondents and burden hours may be temporary and will be revisited by BOEM during future reviews of this control number.

The following table details the hour burden estimates of this ICR. In the table, the term “oil spill financial responsibility” has been shortened to “OSFR.”

Burden Breakdown
Citation 30 CFR part 553 | Reporting requirement * | Hour burden | Average number of annual reponses | Annual burden hours
Various sections | The burdens for all references to submitting evidence of OSFR, as well as required or supporting information, are covered with the forms below. |  |  | 0
Applicability and Amount of OSFR
11(a)(1); 40; 41 | Form BOEM-1016—Designated Applicant Information Certification | 3 | 250 | 750
11(a)(1); 40; 41 | Form BOEM-1017—Appointment of Designated Applicant | 10 | 750 | 7,500
11(a)(1); (2) | Form BOEM-1025—Independent Designated Applicant Information Certification | 2 | 200 | 400
12, 45 | Request for determination of OSFR applicability. Provide required and supporting information | 2 | 5 | 10
15 | Notify BOEM of change in ability to comply | 1 | 1 | 1
15(f) | Provide claimant written explanation of denial | 1 | 15 | 15
Subtotal |  |  | 1,221 | 8,676
Methods for Demonstrating OSFR
21-28; 40 | Form BOEM-1018—Self-Insurance Information, including renewals | 3 | 50 | 150
30; 40; 41; 43 | Form BOEM-1023—Financial Guarantee | 2 | 50 | 100
29; 40; 41; 43 | Form BOEM-1019—Insurance Certificate | 120 | 150 | 18,000
31; 40; 41; 43 | Form BOEM-1020—Surety Bond | 24 | 4 | 96
32 | Proposal and supporting information for alternative method to evidence OSFR (anticipate no proposals, but regulations provide the opportunity) | 120 | 1 | 120
Subtotal |  |  | 255 | 18,466
Requirements for Submitting OSFR Information
14; 40; 41; 43 | Form BOEM-1021—Covered Offshore Facilities | 10 | 255 | 2,550
40-42 | Form BOEM-1022—Covered Offshore Facility Changes | 10 | 500 | 5,000
Subtotal |  |  | 755 | 7,550
Claims for Oil-Spill Removal Costs and Damages
Subpart F | Claims: BOEM is not involved in the claims process. Assessment of burden for claims against the Oil Spill Liability Trust Fund (33 CFR parts 135, 136, 137) falls under the responsibility of the U.S. Coast Guard. |  |  | 0
60(d) | Claimant request for BOEM assistance to determine whether a guarantor may be liable for a claim | 2 | 1 | 2
62 | Within 15-calendar days of claim, designated applicant must notify the guarantor and responsible parties of the claim | 1 | 1 | 1
Subtotal |  | 2 |  | 3
Total Burden |  |  | 2,233 | 34,695
* In the future, BOEM may require electronic filing of financial and bonding submissions.

A Federal Register notice with a 60-day public comment period on this proposed ICR was published on April 11, 2022 (87 FR 21133). BOEM did not receive any comments during the 60-day comment period.

BOEM is again soliciting comments on the proposed ICR. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record. You should be aware that your entire comment—including your address, phone number, email address, or other personally identifiable information included in your comment—may be made publicly available. Even if BOEM withholds your information in the context of this ICR, your comment is subject to the Freedom of Information Act (FOIA). If your comment is requested under the FOIA, your information will only be withheld if BOEM determines that a FOIA exemption to disclosure applies. BOEM will make such a determination in accordance with the Department of the Interior's (DOI) FOIA regulations and applicable law.

In order for BOEM to consider withholding from disclosure your personally identifiable information, you must identify, in a cover letter, any information contained in your comments that, if released, would constitute a clearly unwarranted invasion of your personal privacy. You must also briefly describe any possible harmful consequence of the disclosure of information, such as embarrassment, injury, or other harm.

Note that BOEM will make available for public inspection all comments on www.reginfo.gov, in their entirety, submitted by organizations and businesses or by individuals identifying themselves as representatives of organizations or businesses.

BOEM protects proprietary information in accordance with FOIA (5 U.S.C. 552), DOI's implementing regulations (43 CFR part 2), and 30 CFR parts 550 and 552 promulgated pursuant to the Outer Continental Shelf Lands Act (43 U.S.C. 1352(c)).

An agency may not conduct or sponsor, and a person is not required to respond to, a collection of information unless it displays a valid OMB control number.

The authority for this action is the Paperwork Reduction Act of 1995 (44 U.S.C. 3501 et seq.).

Karen Thundiyil,
Chief, Office of Regulations, Bureau of Ocean Energy Management.

[FR Doc. 2022-21271 Filed 9-29-22; 8:45 am]

BILLING CODE 4310-MR-P